DEPARTMENT OF ENERGY

Federal Energy Regulatory Commission

[Docket No. CP01-3-000]

Northern Natural Gas Company; Notice of Application

October 12, 2000.

Take notice that on October 4, 2000, Northern Natural Gas Company (Northern), 1111 South 103rd Street, Omaha, Nebraska 68124, filed in Docket No. CP01-3-000 an abbreviated application pursuant to Section 7(b) of the Natural Gas Act and Part 157 of the Commission's Regulations thereunder (18 CFR 157.7 and 157.18), for permission and approval to abandon in-place one (1) 2,000 horsepower compressor unit at the Sunray Compressor Station, with appurtenances, located in Moore County, Texas, all as more fully set forth in the request which is on file with the Commission and open to public inspection. The application may be viewed on the web at www.ferc.fed.us. Call (202) 208-2222 for assistance.

Northern states the compressor Unit #9 at its Sunray Compressor Station, proposed to be abandoned in this application, has not been in use for several years and is no longer needed because its system has undergone changes in its operating configuration since the unit was initially installed. Northern asserts that the abandonment of these facilities will not result in the abandonment of service to any of Northern's existing shippers, nor will the proposed abandonment adversely affect capacity since the compression is no longer needed to meet current firm service obligations. Northern also asserts minimal environmental impact.

Any questions regarding this application should be directed to Keith L. Petersen, Director, Certificates and Reporting for Northern, 1111 South 103rd Street, Omaha, Nebraska 68124, at (402) 398-7421, or Don Vignaroli, Regulatory Analyst, at (402) 398-7139.

Any person desiring to be heard or any person desiring to make any protest with reference to said application may, within 45 days after the issuance of the instant notice by the Commission, file with the Federal Energy Regulatory Commission, Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedures, a hearing will be held without further notice before the Commission on this application if no protest or motion to intervene is filed within the time required herein. At that time, the Commission, on its own review of the matter, will determine whether the public convenience and necessity require granting the Abandonment. If a protest or motion for leave to intervene is timely filed, or if the Commission on its own motion believes that a formal hearing is required, further notice of such hearing will be duly given. Under the procedure herein provided for, unless otherwise advised, it will be unnecessary for Northern to appear or to be represented at the hearing.

David P. Boergers,
Secretary.

[FR Doc. 00-26695 Filed 10-17-00; 8:45 am]

BILLING CODE 6717-01-M